COMMITTEE FOR PURCHASE FROM PEOPLE WHO ARE BLIND OR SEVERELY DISABLED

Procurement List; Additions and Deletion

AGENCY: Committee for Purchase From People Who Are Blind or Severely Disabled.

ACTION: Additions to and Deletion from Procurement List.

SUMMARY: This action adds to the Procurement List products to be furnished by nonprofit agencies employing persons who are blind or have other severe disabilities, and deletes from the Procurement List a product previously furnished by such agencies.

DATES: Effective Date: 1/19/2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 10/10/2008, the Committee for Purchase From People Who Are Blind or Severely Disabled published notice (73 FR 60236) of proposed additions to the Procurement List.

After consideration of the material presented to it concerning capability of qualified nonprofit agencies to provide the product and impact of the additions on the current or most recent contractors, the Committee has determined that the product listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

United States Coast Guard Flags

NSNs: 8345-00-242-0272—Flag, U.S. Coast Guard;

8345-01-087-4595—Flag, U.S. Coast Guard;

8345-01-087-4594—Flag, U.S. Coast Guard;

8345-01-168-1146—Flag, U.S. Coast Guard.

NPA: Goodwill Industries of South Florida, Inc., Miami, FL.

Contracting Activity: U.S. COAST GUARD, ELC.

C-list for the requirement of the U.S. Coast Guard.

Deletions

On 09/05/2008, the Committee for Purchase From People Who Are Blind or Severely Disabled published notice (73 FR 51787) of proposed deletion to the Procurement List.

After consideration of the relevant matter presented, the Committee has determined that the product listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product:

Hose Assembly, Nonmetallic

NSN: 4210-00-892-5494—Hose Assembly, Nonmetallic.

NPA: The Oklahoma League for the Blind, Oklahoma City, OK.

Contracting Activity: GSA/FAS southwest supply center (QSDAC), Fort Worth, TX.

Barry S. Lineback,
Sr. Program Analyst.

[FR Doc. E8-30188 Filed 12-18-08; 8:45 am]

BILLING CODE 6353-01-P